DEPARTMENT OF HEALTH AND HUMAN SERVICES

Centers for Disease Control and Prevention

Healthcare Infection Control Practices Advisory Committee; Correction of Notice of Meeting

In accordance with section 10(a)(2) of the Federal Advisory Committee Act (Pub. L. 92-463), the Centers for Disease Control and Prevention (CDC) announces the following committee meeting: Correction.

ACTION: Notice; correction.

SUMMARY: The Department of Health and Human Services, Centers for Disease Control and Prevention published a document in the Federal Register of May 18, 2004, concerning the Healthcare Infection Control Practices Advisory Committee.

Correction

In the Federal Register of May 18, 2004, (Volume 69, Number 96) [Notices] Page 28132-28133—“Place: Swissotel, 3391 Peachtree Road, NE., Atlanta, Georgia 30033” should read: Westin Buckhead Hotel, 3391 Peachtree Road, NE., Atlanta, Georgia 30033.

FOR FURTHER INFORMATION CONTACT: Michele L. Pearson, M.D., Executive Secretary, HICPAC, Division of Healthcare Quality Promotion, NCID, CDC, 1600 Clifton Road, NE., M/S A-07, Atlanta, Georgia 30333, telephone (404) 498-1182.

The Director, Management Analysis and Services Office has been delegated the authority to sign Federal Register notices pertaining to announcements of meetings and other committee management activities, for both CDC and the Agency for Toxic Substances and Disease Registry.

Alvin Hall,
Director, Management Analysis and Services Office, Centers for Disease Control and Prevention.

[FR Doc. 04-11874 Filed 5-25-04; 8:45 am]

BILLING CODE 4163-19-P